DEPARTMENT OF TRANSPORTATION

Federal Aviation Administration

Sixty Sixth RTCA SC-186 Automatic Dependent Surveillance—Broadcast Working Group 4 and Plenary Session

AGENCY: Federal Aviation Administration (FAA), U.S. Department of Transportation (DOT).

ACTION: Sixty Sixth RTCA SC-186 Automatic Dependent Surveillance—Broadcast Working Group 4 and Plenary Session.

SUMMARY: The FAA is issuing this notice to advise the public of a meeting of Sixty Sixth RTCA SC-186 Automatic Dependent Surveillance—Broadcast Working Group 4 and Plenary Session.

DATES: The meeting will be held November 01-04, 2016, 09:00 a.m.-04:30 p.m.

ADDRESSES: The meeting will be held at: RTCA Headquarters, 1150 18th Street NW., Suite 910, Washington, DC 20036.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Sixty Sixth RTCA SC-186 Automatic Dependent Surveillance—Broadcast Working Group 4 and Plenary Session. The agenda will include the following:

Tuesday, November 1st, 9:00 a.m. to 4:30 p.m.

Specific Working Group Sessions

All Day, WG-4—Application Technical, 4th Floor Large & Small Conf. Rooms Requirements, Advanced Interval Management MOPS development

Wednesday, November 2nd, 9:00 a.m. to 4:30 p.m.

Specific Working Group Sessions

All Day, WG-4—Application Technical, 4th Floor Large & Small Conf. Rooms Requirements, Advanced Interval Management MOPS development

Thursday, November 3rd, 9:00 a.m. to 4:30 p.m.

Specific Working Group Sessions

All Day, WG-4—Application Technical, 4th Floor Large & Small Conf. Rooms Requirements, Advanced Interval Management MOPS development

Friday, November 4th, 9:00 a.m. to 4:30 p.m.

Plenary Session Agenda

1. Chairman's Introductory Remarks

2. Review of Meeting Agenda

3. Review/Approval of the Sixty-Fifth Meeting Summary

4. FAA Surveillance and Broadcast Services (SBS) Program—Status

5. WG-3—Extended Squitter MOPS/SC-209 Transponder MOPS revisions

• Status

6. WG-4—Application Technical Requirements

• A-IM: Status

7. New Business

8. Other Business

• Update on Aireon activities from Mike Garcia

9. Review Action Items/Work Programs

10. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 6, 2016.
Mohannad Dawoud,
Management & Program Analyst, Partnership Contracts Branch, ANG-A17 NextGen, Procurement Services Division, Federal Aviation Administration.

[FR Doc. 2016-24589 Filed 10-11-16; 8:45 am]

BILLING CODE 4910-13-P